DEPARTMENT OF AGRICULTURE

National Agricultural Statistics Service

Notice of Appointment to the Advisory Committee on Agriculture Statistics

AGENCY: National Agricultural Statistics Service, USDA.

ACTION: Notification of appointment to the Advisory Committee on Agriculture Statistics.

SUMMARY: The Office of the Secretary of Agriculture announces members appointed to the Advisory Committee on Agriculture Statistics, in accordance with the Federal Advisory Committee Act, 5 U.S.C. App.

FOR FURTHER INFORMATION CONTACT: Joe Reilly, Executive Director, Advisory Committee on Agriculture Statistics, U.S. Department of Agriculture, National Agricultural Statistics Service, 1400 Independence Avenue SW., Room 5041A South Building, Washington, DC 20250-2000. Telephone: 202-720-4333, Fax: 202-720-9013, or e-mail: jreilly@nass.usda.gov.

SUPPLEMENTARY INFORMATION: The appointment for the twenty-five member committee, which has representation across seven categories which covers a broad range of agricultural disciplines and interests, was signed on November 16, 2005. Appointed members, by their associated category are: Consumer and Information Organizations—John Baugh, West Lafayette, IN; Janice Gengenbach, Smithfield, NE; Kent Schescke, Carmel, IN; Educational Organizations—R. Edmund Gomez, Alcalde, NM; Barry Goodwin, Cary, NC; Ron Plain, Columbia, MO. Farm Services Organizations—Jacklyn Folsom, Cabot, VT; John Hays, Alexandria, VA; Doris Mold, Cumberland, WI; Ranvir Singh, Marysville, CA; John Smylie, Palatine, IL. Government Agencies—Karen Klonsky, Winters, CA. National Farm Organizations—Patricia Berglund, Fargo, ND; Brent Blauch, Mechanicsburg, PA; Peter Daniel, Raleigh, NC; Terry Francl, Crofton, MD. Producer and Marketing Organizations—Gary Adams, Cordova, TN; Carl Brothers, Stuttgart, AR; Roger Cryan, Fairfax, VA; William Lapp, Omaha, NE; Lucy Meyring, Walden, CO; James Robb, Lakewood, CO; Ira Silvergleit, Alexandria, VA. Professional Organizations—Frank Howell, Starkville, MS; A. Gene Nelson, College Station, TX.

The duties of the Committee are solely advisory. The Committee will make recommendations to the Secretary of Agriculture with regards to the agricultural statistics program of the National Agricultural Statistics Service (NASS) and such other matters as it may deem advisable, or which the Secretary of Agriculture, Under Secretary for Research, Education, and Economics, or the Administrator of NASS may request. The Advisory Committee meeting will be held on February 14-15, 2006. All meetings are open to the public. Committee members will be reimbursed for official travel expenses only.

Signed at Washington, DC, January 18, 2006.
R. Ronald Bosecker,
Administrator, National Agricultural Statistics Service.

[FR Doc. E6-1877 Filed 2-9-06; 8:45 am]

BILLING CODE 3410-20-P